DEPARTMENT OF COMMERCE

National Oceanic and Atmospheric Administration

[I.D. 030905D]

Marine Mammals; Files No. 522-1785 and 633-1778

AGENCY: National Marine Fisheries Service (NMFS), National Oceanic and Atmospheric Administration (NOAA), Commerce.

ACTION: Receipt of applications.

SUMMARY: Notice is hereby given that two applicants have applied in due form for a permit to take marine mammals for scientific research purposes or for an amendment to an existing permit.

DATES: Written, telefaxed, or e-mail comments must be received on or before April 20, 2005.

ADDRESSES: The applications and related documents are available for review upon written request or by appointment in the following office(s):

Permits, Conservation and Education Division, Office of Protected Resources, NMFS, 1315 East-West Highway, Room 13705, Silver Spring, MD 20910; phone (301)713-2289; fax (301)427-2521;

File No. 633-1778 - Assistant Regional Administrator for Protected Resources, Northeast Region, NMFS, One Blackburn Drive, Gloucester, MA 01930-2298; phone (978)281-9328; fax (987)281-9394; and

Files 522-1758 and 633-1778 - Assistant Regional Administrator for Protected Resources, Southeast Region, NMFS, 263 13th Avenue South, St. Petersburg, FL 33701, phone (727)824-5312; fax (727)824-5309.

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 522-1785 or File No. 633-1778.

FOR FURTHER INFORMATION CONTACT: Ruth Johnson (Ruth.Johnson@noaa.gov) or Carrie Hubard (Carrie.W.Hubard@noaa.gov) or phone (301)713-2289.

SUPPLEMENTARY INFORMATION: The subject permits are requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).

Dr. Randall Wells (File No. 522-1785) requests a permit to take bottlenose dolphins (Tursiops truncatus) for scientific research. The take would include capture, examination, sample, mark, tag and release of up to 120 individual bottlenose dolphins in the shallow coastal waters of central west Florida and remotely biopsy sample 100 dolphins annually for five years. This work is a continuation of research activities since 1984. The activities would provide crucial background information on individual identification, sex, age, reproductive status, and genetic relationships to support ongoing long-term observational studies of population structure, population dynamics, life history, social structure, genetic structure including paternity patterns, and human interactions. Tissue samples and veterinary examinations would support investigation of biomarkers of environmental contaminants and their effects as part of an ongoing study in collaboration with NMFS. Other components of the collaborative program involve studies of health assessment, contaminant loads and associated medical effects, immune system function, detection of brevetoxin, assessments of thermal status, identification of prey species, nutritional status, and predation events, studies of whistle development and function, measures of hearing ability, and behavior associated with sound production.

Center for Coastal Studies (File No. 633-1778), (Julie Robbins (PI), requests a permit to approach, photograph (1600 animals) and collect tissue samples (200 animals) from humpback whales (Megaptera novaeangliae). Humpbacks would be biopsy sampled up to three times per year. Activities would take place in all U.S. waters of the North Atlantic Ocean, but would focus on the U.S. and Canadian Gulf of Maine. The Center for Coastal Studies maintains a long-term catalog and life history database for the Gulf of Maine humpback population. In the next five years, those data are expected to be applied to the following areas of research: (1) to monitor trends in abundance and vital rates, (2) to study movement and habitat use patterns, including individual exchange with other populations, (3) to study entanglement rates and human-related impacts, (4) to perform molecular genetic investigations into demography and reproductive success, (5) to perform hormone-based studies into reproduction and neonatal mortality, and (6) to perform stable isotope investigations into foraging ecology and nutritional stress. Authorization is also requested to import, export and re-export tissue samples between the U.S. and Canada and collect sloughed skin. Additionally, six other cetacean species would be approached and biopsy sampled on an opportunistic basis during the proposed research. Samples would be used to increase scientific understanding of local populations and to clarify oceanic population structure. The six species include approach, photo-id and biopsy sample once up to 25 each of fin whales (Balaenoptera physalus), minke whales (Balaenoptera acutorostrata), sei whales (Balaenoptera borealis), blue whales (Balaenoptera musculus), sperm whales (Physeter macrocephalus), and 50 each of killer whales (Orcinus orca).

Concurrent with the publication of this notice in the Federal Register, NMFS is forwarding copies of this application to the Marine Mammal Commission and its Committee of Scientific Advisors.

Dated: March 15, 2005.
Stephen L. Leathery,
Chief, Permits, Conservation and Education Division, Office of Protected Resources, National Marine Fisheries Service.

[FR Doc. 05-5539 Filed 3-18-05; 8:45 am]

BILLING CODE 3510-22-S